DEPARTMENT OF HEALTH AND HUMAN SERVICES

National Institutes of Health

Center for Scientific Review; Amended Notice of Meeting

Notice is hereby given of a change in the meeting of the Center for Scientific Review Special Emphasis Panel Fellowships: Clinical Care and Health Interventions, March 6, 2023, 9 a.m. to March 7, 2023, 8 p.m., National Institutes of Health, 6701 Rockledge Drive, Bethesda, MD 20892, which was published in the Federal Register on February 08, 2023, 88 FR 8298, FR Doc 2023-02619.

This meeting is being amended to change the SRO Contact from Martha M Faraday, Ph.D., to Hoa Thi Vo, Ph.D., Center for Scientific Review, National Institutes of Health, 6701 Rockledge Drive Bethesda, MD 20892; 301-594-0776. The meeting is closed to the public.

Dated: February 16, 2023.
Melanie J. Pantoja,
Program Analyst, Office of Federal Advisory Committee Policy.

[FR Doc. 2023-03700 Filed 2-22-23; 8:45 am]

BILLING CODE 4140-01-P